LEGAL SERVICES CORPORATION

Board of Directors Finance Committee; Sunshine Act Meeting

TIME AND DATE: The Finance Committee of the Legal Services Corporation Board of Directors will meet on May 31, 2002. The meeting will begin at 1:30 p.m. and continue until the Committee concludes its agenda.

LOCATION: The Melrose Hotel, 2430 Pennsylvania Avenue, NW., Washington, DC.

STATUS OF MEETING: Open.

MATTERS TO BE CONSIDERED: 1. Approval of agenda.

2. Approval of the minutes of the Committee's meeting of April 5, 2002.

3. Review of the Legal Services Corporation's Consolidated Operating Budget, Expenses and Other Funds available through April 5, 2002.

4. Review the projected operating expenses for fiscal year 2002 based on operating experience through March 31, 2002 and the required internal budgetary adjustments due to shifting priorities.

5. Consider and act on the President's recommendations for Consolidated Operating Budget reallocations.

6. Report on internal budgetary adjustments by the President and Inspector General.

7. Report on budgetary needs for fiscal year 2004.

8. Consider and act on Amendment to the LSC Flexible Benefits Plan.

9. Consider and act on other business.

10. Public comment.

CONTACT PERSON FOR INFORMATION: Victor M. Fortuno, Vice President for Legal Affairs, General Counsel & Corporate Secretary, at (202) 336-8800.

SPECIAL NEEDS: Upon request, meeting notices will be made available in alternate formats to accommodate visual and hearing impairments. Individuals who have a disability and need an accommodation to attend the meeting may notify Elizabeth S. Cushing, at (202) 336-8800.

Dated: May 24, 2002.
Victor M. Fortuno,
Vice President for Legal Affairs, General Counsel & Corporate Secretary.

[FR Doc. 02-13561 Filed 5-24-02; 2:22 pm]

BILLING CODE 7050-01-P